DEPARTMENT OF ENERGY

Federal Energy Regulatory Commission

Notice of Public Comment Meetings for the Elba III Project Draft Environmental Impact Statement

April 25, 2007.

Southern LNG Inc. (Docket No. CP06-470-000); Elba Express Company, L.L.C. (Docket Nos. CP06-471-000, CP06-472-000, and CP06-473-000); Southern Natural Gas Company (Docket No. CP06-474-000)

On March 30, 2007, the staff of the Federal Energy Regulatory Commission (FERC or Commission) issued a draft Environmental Impact Statement (EIS) for the Elba III Project, proposed by Southern LNG Inc., Elba Express Company, LLC, and their parent company Southern Natural Gas Company, a subsidiary of El Paso Corporation. Issuance of the draft EIS began a 45-day public comment period which will end on May 21, 2007. In addition to accepting written comments on the draft EIS, the Commission staff will be hosting public comment meetings in the project area to accept oral comments as listed in the following table.

Public meeting date and time | Location
Monday, May 7, 2007 at 7 p.m | Washington-Wilkes High School Cafeteria, 304 Gordon Street, Washington, GA 30673, Phone: (706) 678-2426.
Tuesday, May 8, 2007 at 7 p.m | Thomson High School Cafeteria, 1160 White Oak Road, Thomson, GA 30824, Phone: (706) 986-4200.
Wednesday, May 9, 2007 at 7 p.m | Sylvania Recreation Building, 605 Millen Highway, Sylvania, GA 30467, Phone: (912) 863-2388.
Thursday, May 10, 2007 at 7 p.m | Quality Inn Conference Center, (Southburg Chateau Room), 301 Governor Truetlen Drive, Pooler, GA 31322, Phone: (912) 748-6464.

Comment Procedure

Instructions for submitting written comments are included in the draft EIS and the Notice of Availability that were issued on March 30, 2007. These documents can be found on the FERC Internet website as discussed below. Oral comments presented at the public comment meetings will be given the same consideration as written comments received by mail before the close of the public comment period on May 21, 2007.

As with previous public meetings on the Elba III Project, attendees will be asked to provide their name and address so that any project-related environmental information issued by the Commission may be mailed to all attendees. Additionally, those wishing to provide oral comments will be asked to put their name on a Speakers List. Depending on the number of individuals wishing to provide oral comments, speakers may be asked to limit their presentations to 5 minutes in order that all speakers may be accommodated. Transcripts of the public comment meetings will be prepared and placed into the FERC's public record.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

Kimberly D. Bose,
Secretary.

[FR Doc. E7-8338 Filed 5-1-07; 8:45 am]

BILLING CODE 6717-01-P